DEPARTMENT OF TRANSPORTATION

Federal Aviation Administration

14 CFR Part 39

[Docket No. FAA-2014-0057; Directorate Identifier 2013-NM-210-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 737-100, -200, -200C, -300, -400, and -500 series airplanes. This proposed AD was prompted by reports from multiple operators that have found fatigue cracking in the corners of the forward galley service doorway. This proposed AD would require repetitive inspections for any cracking of the skin and bear strap doublers in the corners of the forward galley service doorway, and corrective action if necessary. This proposed AD would also provide optional terminating actions for certain repetitive inspections. We are proposing this AD to detect and correct fatigue cracking, which could result in rapid loss of cabin pressure.

DATES: We must receive comments on this proposed AD by April 11, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0057; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Alan Pohl, Aerospace Engineer, Airframe Branch, ANM-120S, FAA, Seattle Aircraft Certification Office, 1601 Lind Avenue SW., Renton, WA 98057-3356; phone: (425) 917-6450; fax: (425) 917-6590; email: alan.pohl@faa.gov.

SUPPLEMENTARY INFORMATION:

Comments Invited

We invite you to send any written relevant data, views, or arguments about this proposal. Send your comments to an address listed under the ADDRESSES section. Include “Docket No. FAA-2014-0057; Directorate Identifier 2013-NM-210-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports from multiple operators that have found fatigue cracking of the skin and bear strap in the corners of the forward galley service doorway. Some of the reported cracks were found outside of areas of directed or recommended inspections, or in areas modified as specified in previous revisions of Boeing Alert Service Bulletin 737-53A1116. Some airplanes were found to have multiple cracks in the corner areas. This condition, if not corrected, could result in rapid loss of cabin pressure.

Related Rulemaking

AD 90-06-02, Amendment 39-6489 (Docket No. 89-NM-67-AD; 55 FR 8372, March 7, 1990); AD 98-11-04 R1, Amendment 39-10984 (64 FR 987, January 7, 1999); AD 2008-08-23, Amendment 39-15477 (73 FR 21237, April 21, 2008); and AD 2008-09-13, Amendment 39-15494 (73 FR 24164, May 2, 2008); are supplemental structural inspection (SSI) program ADs that contain inspection requirements that are near or overlap the inspection areas that this proposed AD would require. The inspections mandated by those exploratory SSI ADs are not sufficient to address the unsafe condition identified in this proposed AD.

Relevant Service Information

We reviewed Boeing Alert Service Bulletin 737-53A1116, Revision 4, dated September 30, 2013. For information on the procedures and compliance times, see this service information at http://www.regulations.gov by searching for Docket No. FAA-2014-0057.

FAA's Determination

We are proposing this AD because we evaluated all the relevant information and determined the unsafe condition described previously is likely to exist or develop in other products of the same type design.

Proposed AD Requirements

This proposed AD would require repetitive inspections for certain The Boeing Company Model 737-100, -200, -200C, -300, -400, and -500 series airplanes for any cracking of the skin and bear strap doublers in the corners of the forward galley service doorway, and corrective action if necessary. This proposed AD would also provide optional terminating actions for certain repetitive inspections.

The phrase “corrective actions” is used in this proposed AD. “Corrective actions” are actions that correct or address any condition found. Corrective actions in an AD could include, for example, repairs.

Differences Between the Proposed AD and the Service Information

The service information specifies to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Table 11 in paragraph 1.E., “Compliance,” of Boeing Alert Service Bulletin 737-53A1116, Revision 4, dated September 30, 2013, specifies post-repair inspections, which may be used in support of compliance with section 121.1109(c)(2) or 129.109(b)(2) of the Federal Aviation Regulations (14 CFR 121.1109(c)(2) or 129.109(b)(2)). However, this NPRM does not propose to require those post-repair inspections. This difference has been coordinated with Boeing.

Costs of Compliance

We estimate that this proposed AD affects 419 airplanes of U.S. registry.

We estimate the following costs to comply with this proposed AD:

Estimated Costs
Action | Labor cost | Parts cost | Cost per product | Cost on U.S. operators
Inspection | 19 work-hours × $85 per hour = $1,615 per inspection cycle | None | $1,615 per inspection cycle | $676,685 per inspection cycle.

We have received no definitive data that would enable us to provide cost estimates for any on-condition actions specified in this proposed AD. We have no way of determining the number of aircraft that might need this repair.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0057; Directorate Identifier 2013-NM-210-AD.

(a) Comments Due Date

We must receive comments by April 11, 2014.

(b) Affected ADs

None.

(c) Applicability

This AD applies to The Boeing Company Model 737-100, -200, -200C, -300, -400, and -500 series airplanes, certificated in any category, as identified in Boeing Alert Service Bulletin 737-53A1116, Revision 4, dated September 30, 2013.

(d) Subject

Air Transport Association (ATA) of America Code 53, Fuselage.

(e) Unsafe Condition

This AD was prompted by reports from multiple operators that have found fatigue cracking of the skin and bear strap in the corners of the forward galley service doorway. We are issuing this AD to detect and correct fatigue cracking, which could result in rapid loss of cabin pressure.

(f) Compliance

Comply with this AD within the compliance times specified, unless already done.

(g) Inspections and Corrective Actions for Groups 1 through 4 Airplanes

For Groups 1 through 4 airplanes identified in Boeing Alert Service Bulletin 737-53A1116, Revision 4, dated September 30, 2013: Within the applicable compliance times specified in Tables 1 through 10 of paragraph 1.E., “Compliance,” of Boeing Alert Service Bulletin 737-53A1116, Revision 4, dated September 30, 2013, except as provided by paragraph (j)(1) of this AD, do the applicable detailed and low frequency eddy current inspections for any cracking of the skin and bear straps in the corners of the forward galley service door and do all applicable corrective actions, in accordance with the Accomplishment Instructions of Boeing Alert Service Bulletin 737-53A1116, Revision 4, dated September 30, 2013, except as required by paragraph (j)(2) of this AD. Do all applicable corrective actions before further flight. Repeat the inspections at the applicable time specified in Tables 1 through 10 of paragraph 1.E., “Compliance,” of Boeing Alert Service Bulletin 737-53A1116, Revision 4, dated September 30, 2013.

(h) Inspections and Corrective Actions for Group 5 Airplanes

For Group 5 airplanes identified in Boeing Alert Service Bulletin 737-53A1116, Revision 4, dated September 30, 2013: Within 120 days after the effective date of this AD, do inspections of the skin and bear straps and all applicable corrective actions using a method approved in accordance with the procedures specified in paragraph (m) of this AD.

(i) Optional Terminating Actions

(1) For Groups 1 and 2 airplanes identified in Boeing Alert Service Bulletin 737-53A1116, Revision 4, dated September 30, 2013: Accomplishment of a repair before the effective date of this AD in the upper aft corner of the forward galley service doorway, in accordance with any service information specified in paragraphs (i)(1)(i) through (i)(1)(iv) of this AD, terminates the requirement for the repetitive inspection required by paragraph (g) of this AD for that repaired doorway corner only.

(i) Boeing Service Bulletin 737-53-1116, dated July 21, 1988.

(ii) Boeing Service Bulletin 737-53-1116, Revision 1, dated September 7, 1989.

(iii) Boeing Service Bulletin 737-53-1116, Revision 2, dated September 30, 1993.

(iv) Boeing Service Bulletin 737-53-1116, Revision 3, dated July 27, 1995.

(2) For Group 2 airplanes identified in Boeing Alert Service Bulletin 737-53A1116, Revision 4, dated September 30, 2013, on which no repair or modification was done using any of the service information identified in paragraphs (i)(2)(i) through (i)(2)(iv) of this AD; and for Group 3 airplanes identified in Boeing Alert Service Bulletin 737-53A1116, Revision 4, dated September 30, 2013: Repairing or modifying the upper aft corner of the forward galley service doorway, in accordance with the Accomplishment Instructions of Boeing Alert Service Bulletin 737-53A1116, Revision 4, dated September 30, 2013, terminates the repetitive inspections required by paragraph (g) of this AD for that repaired or modified doorway corner only.

(i) Boeing Service Bulletin 737-53-1116, dated July 21, 1988.

(ii) Boeing Service Bulletin 737-53-1116, Revision 1, dated September 7, 1989.

(iii) Boeing Service Bulletin 737-53-1116, Revision 2, dated September 30, 1993.

(iv) Boeing Service Bulletin 737-53-1116, Revision 3, dated July 27, 1995.

(3) For Groups 2 and 3 airplanes identified in Boeing Alert Service Bulletin 737-53A1116, Revision 4, dated September 30, 2013: Repairing or modifying the lower forward or lower aft corner of the forward galley service doorway, in accordance with the Accomplishment Instructions of Boeing Alert Service Bulletin 737-53A1116, Revision 4, dated September 30, 2013, terminates the repetitive inspection required by paragraph (g) of this AD for that repaired or modified doorway corner only.

(j) Exceptions to the Service Information

(1) Where Boeing Alert Service Bulletin 737-53A1116, Revision 4, dated September 30, 2013, specifies a compliance time “after the Revision 4 date of this service bulletin,” this AD requires compliance within the specified compliance time “after the effective date of this AD.”

(2) Where Boeing Alert Service Bulletin 737-53A1116, Revision 4, dated September 30, 2013, specifies to contact Boeing for repair instructions: Before further flight, repair the cracking using a method approved in accordance with the procedures specified in paragraph (m) of this AD.

(k) Credit for Previous Actions

This paragraph provides credit for the inspections of the upper corners of the forward galley service doors specified in paragraph (g) of this AD, if those actions were performed before the effective date of this AD using any of the service information identified in paragraphs (k)(1) through (k)(4) of this AD (which are not incorporated by reference in this AD), provided that any preventative modification installed using this service information is inspected in accordance with paragraph (g) of this AD.

(1) Boeing Service Bulletin 737-53-1116, dated July 21, 1988.

(2) Boeing Service Bulletin 737-53-1116, Revision 1, dated September 7, 1989.

(3) Boeing Service Bulletin 737-53-1116, Revision 2, dated September 30, 1993.

(4) Boeing Service Bulletin 737-53-1116, Revision 3, dated July 27, 1995.

(l) Post-Repair Inspections

The post-repair inspections specified in Table 11 of paragraph 1.E., “Compliance,” of Boeing Alert Service Bulletin 737-53A1116, Revision 4, dated September 30, 2013, are not required by this AD.

Note 1 to paragraph (l) of this AD: The post-repair inspections specified in Table 11 of paragraph 1.E., “Compliance,” of Boeing Alert Service Bulletin 737-53A1116, Revision 4, dated September 30, 2013, may be used in support of compliance with section 121.1109(c)(2) or 129.109(b)(2) of the Federal Aviation Regulations (14 CFR 121.1109(c)(2) or 14 CFR 129.109(b)(2)).

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(n) Related Information

(1) For more information about this AD, contact Alan Pohl, Aerospace Engineer, Airframe Branch, ANM-120S, FAA, Seattle Aircraft Certification Office, 1601 Lind Avenue SW., Renton, WA 98057-3356; phone: (425) 917-6450; fax: (425) 917-6590; email: alan.pohl@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, Washington. For information on the availability of this material at the FAA, call 425-227-1221.

Issued in Renton, Washington, on February 14, 2014.
Jeffrey E. Duven,
Manager, Transport Airplane Directorate, Aircraft Certification Service.

[FR Doc. 2014-04003 Filed 2-24-14; 8:45 am]

BILLING CODE 4910-13-P